DEPARTMENT OF ENERGY

Federal Energy Regulatory Commission

Combined Notice of Filings

Take notice that the Commission has received the following Natural Gas Pipeline Rate and Refund Report filings:

Filings Instituting Proceedings

Docket Numbers: RP15-1286-000.

Applicants: Northwest Pipeline LLC.

Description: § 4(d) Rate Filing: Non-Conforming Contract—140766 to be effective 10/21/2015.

Filed Date: 9/21/15.

Accession Number: 20150921-5166.

Comments Due: 5 p.m. ET 10/5/15.

Docket Numbers: RP15-1287-000.

Applicants: National Fuel Gas Supply Corporation.

Description: § 4(d) Rate Filing: Northern Access 2015 to be effective 11/1/2015.

Filed Date: 9/22/15.

Accession Number: 20150922-5116.

Comments Due: 5 p.m. ET 10/5/15.

Docket Numbers: RP15-1288-000.

Applicants: National Fuel Gas Supply Corporation.

Description: § 4(d) Rate Filing: Tuscarora Lateral (Supply CF) to be effective 11/1/2015.

Filed Date: 9/24/15.

Accession Number: 20150924-5067.

Comments Due: 5 p.m. ET 10/6/15.

Docket Numbers: RP15-1289-000.

Applicants: Enable Mississippi River Transmission, L.

Description: 2015 Annual Penalty Revenue Credit Filing of Enable Mississippi River Transmission, LLC under New Docket.

Filed Date: 9/24/15.

Accession Number: 20150924-5071.

Comments Due: 5 p.m. ET 10/6/15.

Docket Numbers: RP15-1290-000.

Applicants: Transcontinental Gas Pipe Line Company.

Description: § 4(d) Rate Filing: DPEs-NYFG and UGI to be effective 10/25/2015.

Filed Date: 9/24/15.

Accession Number: 20150924-5134.

Comments Due: 5 p.m. ET 10/6/15.

Docket Numbers: RP15-1291-000.

Applicants: Questar Pipeline Company.

Description: § 4(d) Rate Filing: Statement of Negotiated Rates Version 11.0.0 to be effective 9/25/2015.

Filed Date: 9/25/15.

Accession Number: 20150925-5002.

Comments Due: 5 p.m. ET 10/7/15.

Docket Numbers: RP15-1292-000.

Applicants: North Baja Pipeline, LLC.

Description: § 4(d) Rate Filing: TC Plus Revisions_Cleanup to be effective 10/26/2015.

Filed Date: 9/25/15.

Accession Number: 20150925-5027.

Comments Due: 5 p.m. ET 10/7/15.

Docket Numbers: RP15-1293-000.

Applicants: Tennessee Gas Pipeline Company, L.L.C.

Description: § 4(d) Rate Filing: Pipeline Safety and Greenhouse Gas Cost Adjustment Mechanism—2015 to be effective 11/1/2015.

Filed Date: 9/25/15.

Accession Number: 20150925-5133.

Comments Due: 5 p.m. ET 10/7/15.

Docket Numbers: RP15-1294-000.

Applicants: Gas Transmission Northwest LLC.

Description: § 4(d) Rate Filing: Compliance to Docket CP12-494-000—Carty Lateral Project to be effective 12/31/9998.

Filed Date: 9/25/15.

Accession Number: 20150925-5155.

Comments Due: 5 p.m. ET 10/7/15.

Docket Numbers: RP15-1295-000.

Applicants: Tennessee Gas Pipeline Company, L.L.C.

Description: § 4(d) Rate Filing: Volume No. 2—Neg. Rate Agrmts with Antero Resources et al. to be effective 11/1/2015.

Filed Date: 9/25/15.

Accession Number: 20150925-5233.

Comments Due: 5 p.m. ET 10/7/15.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP15-1147-001.

Applicants: Horizon Pipeline Company, L.L.C.

Description: Compliance filing Compliance Filing—Docket No. RP15-1147 to be effective 9/1/2015.

Filed Date: 9/22/15.

Accession Number: 20150922-5095.

Comments Due: 5 p.m. ET 10/5/15.

Docket Numbers: RP13-886-002.

Applicants: Southern Natural Gas Company, L.L.C.

Description: Compliance filing Rate Case Settlement—2015 Implementation to be effective 11/1/2015.

Filed Date: 9/25/15.

Accession Number: 20150925-5212.

Comments Due: 5 p.m. ET 10/7/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2015.
Nathaniel J. Davis, Sr.,
Deputy Secretary.

[FR Doc. 2015-25125 Filed 10-1-15; 8:45 am]

BILLING CODE 6717-01-P